DEPARTMENT OF DEFENSE

Department of the Army; Corps of Engineers

Notice of Availability of Draft Environmental Impact Statement for the Proposed Mather Specific Plan Project, Sacramento County, CA, Corps Permit Application Number SPK-2002-561

AGENCY: Department of the Army, U.S. Army Corps of Engineers, DOD.

ACTION: Notice of availability.

SUMMARY: Pursuant to the National Environmental Policy Act (NEPA), the U.S. Army Corps of Engineers (USACE), Sacramento District has prepared a Draft Environmental Impact Statement (DEIS) to analyze the potential direct, indirect and cumulative effects of implementing the No Action alternative and three large-scale, mixed-use development alternatives in the approximately 5,749-acre Mather Specific Plan area, Sacramento County, California (note that approximately 2,554 acres of the Plan area contains existing development, primarily Mather Airport, a Commerce Center, a residential subdivision, lake and golf course).

The purpose of the DEIS is to provide decision-makers and the public with information pertaining to the Applicant's Preferred Alternative and alternatives, and to disclose environmental impacts and identify mitigation measures to reduce impacts. The DEIS documents the existing condition of resources in the Specific Plan area, concentrating on those areas proposed for development, and analyzes the potential impacts to resources as a result of implementing the alternatives. The alternatives considered in detail are: (A) Applicant's Preferred Alternative; (B) 2006 Conceptual Land Use Plan Alternative; (C) Multiple Preserves Alternative; and (D) No Action/No USACE Permit Alternative.

DATES: All written comments must be postmarked on or before August 13, 2012.

ADDRESSES: Comments may be submitted in writing to: Kathleen Dadey, U.S. Army Corps of Engineers, Sacramento District, Regulatory Division; 1325 J Street, Room 1350, Sacramento, CA 95814-2922, or via email to Kathleen.A.Dadey@usace.army.mil.

FOR FURTHER INFORMATION CONTACT: Kathleen Dadey at 916-557-5250, or via email at Kathleen.A.Dadey@usace.army.mil.

SUPPLEMENTARY INFORMATION: Sacremento County Office of Economic Development and Marketing (applicant) is seeking authorization from USACE for the placement of dredged or fill material into waters of the United States pursuant to Section 404 of the Clean Water Act to develop portions of the Mather Specific Plan area. The overall project purpose is a large scale, mixed use development to promote economic and wetland conservation opportunities within the Mather Specific Plan area. All of the build alternatives include the following land uses: airport commercial, commercial development, parks and recreation, aggregate extraction, university village/residential, regional sports park and infrastructure, including roadways.

Alternative A, the Applicant's Preferred Alternative, includes approximately 1,910 acres of development a 1,272-acre Preserve and a 13-acre riparian buffer area. The applicant proposes to fill a total of 40.25 acres of waters of the U.S., including seasonal wetlands, vernal pools and swales, channels and drainage ditches. The preserved areas would provide protection for wetlands (including vernal pools) and endangered species, including vernal pool fairy shrimp, vernal pool tadpole shrimp, and legenere. The Preserve would also protect federally listed critical habitat.

Alternative B is based on a land use plan for the Mather Specific Plan area that was conceptually endorsed by the Sacramento County Board of Supervisors in February 2006. Alternative B includes a 1,064-acre Preserve and 27 acre riparian buffer area which would provide protection for wetlands and endangered species. This alternative anticipates development of approximately 2,011 acres. Alternative B also includes four “avoidance areas” totaling 93 acres within the parks and recreation and university village/residential areas. Impacts to waters of the U.S. associated with Alternative B would 39.64 acres.

Alternative C proposes land uses identical to Alternative A with the addition of three smaller Preserves within the commercial development and university village/residential areas, with a total of 33.65 acres of fill into waters of the U.S. Alternative C would develop approximately 1,836 acreas and includes 1,346 acres of Preserve and 13 acres of riparian buffer area. Preserve areas would provide protection for wetlands and endangered species.

Alternative D, No Action/No USACE permit, avoids the placement of dredged or fill material into waters of the United States, including wetlands. A reduced amount of future development could occur without Department of the Army authorization, including infill development at Mather Airport and aggregate extraction in the southwestern corner of the project site. Because this alternative does not anticipate substantial economic development and related revenue to fund active management of a Preserve, however, the level of protection and management of wetland resources, listed species and their habitat is unknown.

Comments on the DEIS must be submitted to USACE by August 13, 2012. The public and affected Federal, State and local agencies, Native American Tribes, and other organizations and parties are invited to comment. An electronic copoy of the DEIS may be found on the USACE Web site at: http://www.spk.usace.army.mil/Missions/Regulatory/Overview/EnvironmentalImpactStatements.aspx. A hard copy of the DEIS is available for review at the USACE office during normal business hours. To schedule a time to view the hard copy, please contact Kathleen Dadey.

The USACE will conduct a public meeting for the DEIS on July 25, 2012 from 4:00 p.m. to 7:00 p.m. in Main Conference Room A at 10590 Armstrong Avenue, Mather, California 95655. Interested parties can provide oral and written comments at this meeting.

In addition to this Federal Register notice, USACE will issue public notices advising interested parties of the availability of the DEIS. Interested parties may register for USACE public notices at: http://www.spk.usace.army.mil/Media/RegulatoryPublicNotices.aspx.

Dated: June 20, 2012.
Braden G. LeMaster,
Lieutenant Colonel, Corps of Engineers, Deputy District Engineer.

[FR Doc. 2012-15965 Filed 6-28-12; 8:45 am]

BILLING CODE 3720-58-P